DEPARTMENT OF LABOR

Employment and Training Administration

Cooperative Agreements Under the Disability Employment Initiative; Solicitation for Grant Applications (SGA) SGA-DFA-PY-10-01; Amendment Number 1

AGENCY: Employment and Training Administration (ETA), U.S. Department of Labor.

ACTION: Notice: Amendments, revision of phone number for grants management specialist, and revision of point value for one criterion.

SUMMARY: The Employment and Training Administration published a document in the Federal Register of August 9, 2010, announcing the availability of funds and solicitation for grant applications for the Disability Employment Grants. This amendment makes changes to the August 9 document by correcting this Solicitation.

DATES: Key Dates: The deadline for submission of applications under this announcement is September 8, 2010. Applications must be received no later than 4 p.m. Eastern Standard Time.

FOR FURTHER INFORMATION CONTACT: Eileen Banks, Grants Management Specialist, Telephone (202) 693-3403.

Amendment

In the Federal Register of August 9, 2010, in FR Volume 75, No. 152, the solicitation is amended with the following:

1. This amendment is to correct the phone number for Eileen Banks, Grants Management Specialist. On Page 47839, Section VII. Agency Contacts, delete the following text: For further information regarding this SGA, please contact Eileen Banks, Grants Management Specialist, Division of Federal Assistance, at (202) 693-3401 (please note this is not a toll-free number). Add the following text: For further information regarding this SGA, please contact Eileen Banks, Grants Management Specialist, Division of Federal Assistance, at (202) 693-3403 (please note this is not a toll-free number).

2. This amendment is to correct language related to the number of points for Project Management to be consistent with points listed in the Criterion Table in Section V.A., page 47835. On Page 47837, Section V.A. Delete the following text: 4. Project Management (10 points) Add the following text: Project Management (15 points)

3. This amendment is to correct language related to the number of points for Project Management to be consistent with points listed in the Criterion Table in Section V.A., page 47835. On Page 47837, Section V.A.4. Delete the following text: The 10 possible points for this criteria will be assessed as follows: Add the following text: The 15 possible points for this criteria will be assessed as follows:

4. This amendment is to correct language related to the number of points for Project Management to be consistent with points listed in the Criterion Table in Section V.A., page 47835. On Page 47837, Section V.A.4. Delete the following text: Staff Capacity (5 points) Add the following text: Staff Capacity (8 points)

5. This amendment is to correct language related to the number of points for Project Management to be consistent with points listed in the Criterion Table in Section V.A., page 47835. On Page 47837, Section V.A.4. Delete the following text: Fiscal and Administrative Capacity (5 points) Add the following text: Fiscal and Administrative Capacity (7 points)

Signed at Washington, DC, this 25th day of August 2010.
B. Jai Johnson,
Grant Officer, Employment & Training Administration.

[FR Doc. 2010-21585 Filed 8-30-10; 8:45 am]

BILLING CODE 4510-FN-P